DEPARTMENT OF COMMERCE

National Oceanic and Atmospheric Administration

RIN 0648-XK64

New England Fishery Management Council; Public Meeting

AGENCY: National Marine Fisheries Service (NMFS), National Oceanic and Atmospheric Administration (NOAA), Commerce.

ACTION: Notice of a public meeting.

SUMMARY: The New England Fishery Management Council (Council) will hold a three-day Council meeting, on October 7-9, 2008, to consider actions affecting New England fisheries in the exclusive economic zone (EEZ).

DATES: The meeting will be held on Tuesday, October 7 beginning at 9 a.m., and Wednesday and Thursday, October 8 and 9, beginning at 8:30 a.m.

ADDRESSES: The meeting will be held at the Hilton Hotel, 20 Coogan Boulevard, Mystic, CT 06355; telephone: (860) 572-0731.

Council address: New England Fishery Management Council, 50 Water Street, Mill 2, Newburyport, MA 01950.

FOR FURTHER INFORMATION CONTACT: Paul J. Howard, Executive Director, New England Fishery Management Council, telephone: (978) 465-0492.

SUPPLEMENTARY INFORMATION:

Tuesday, October 7, 2008

Following introductions and any announcements, the Council will receive a series of brief reports from the Council Chairman and Executive Director, the NOAA Fisheries Northeast Regional Administrator, Northeast Fisheries Science Center and Mid-Atlantic Fishery Management Council liaisons, NOAA General Counsel, NOAA Enforcement and representatives of the U.S. Coast Guard and the Atlantic States Marine Fisheries Commission. Following these reports, there will be an open comment period during which any interested party may address the Council about fishery management related issues that are otherwise not listed on the agenda. NMFS staff from Silver Spring, MD will hold a scoping session on Amendment 3 to the Consolidated Atlantic Highly Migratory Species Fishery Management Plan, an action that will focus on small coastal shark issues. Prior to a lunch break the Council will discuss the most recent International Commission for the Conservation of Atlantic Tunas Advisory Panel meeting and consider recommendations for bluefin tuna management. The Council's Scientific and Statistical Committee will review its priority and workload issues, discuss its comments on the scientific basis for Amendment 3 to the Skate Fishery Management Plan (FMP), provide comments on the new scallop overfishing definition under consideration for use in Framework Adjustment 15 to the Scallop FMP and provide feedback on the utility of a report on NEFMC documents used in sea scallop management. As the final agenda item of the day, the Sea Scallop Committee will review its discussions about updated biomass estimates provided by the Scallop Plan Development Team for the Elephant Trunk and Delmarva access areas. It is not necessary for the Council to take action at the meeting, however, given that if biomass estimates fall below defined thresholds, NMFS already has the authority to reduce the number of allowed trips in the areas. That authority was provided by the Council in Framework Adjustment 19 to the Scallop FMP. If appropriate, the Council also may discuss and approve a response to the most recent NMFS Biological Opinion for the Scallop FMP. The agency is requesting that the Council further develop one of several management measures outlined in the Opinion to minimize the impacts of sea turtle incidental takes in the fishery and include the action in an upcoming adjustment to the Scallop FMP.

Wednesday, October 8, 2008

The Council will review the progress of its Herring Committee to develop management alternatives for Amendment 4 to the Herring FMP. Committee recommendations include but are not limited to a catch monitoring program for the fishery, management measures to address herring bycatch concerns in the Atlantic mackerel fishery, annual catch limits, accountability measures and individual as well as group quota allocation programs. The Council also will approve recommendations for cooperative research priorities for the 2010 herring research set-aside program. Following a lunch break the NEFMC will take initial action on Framework Adjustment 2 to the Spiny Dogfish FMP. The action will allow consideration of alternatives to adjust stock status determination criteria. The Council also will briefly review any experimental fishery permits requests published since the last Council meeting and possibly offer comments.

NMFS will then review the final Marine Protected Area Framework and proposed nomination process. This item will be followed by discussion and approval of Council comments on the August 26, 2008 Advanced Notice of Proposed Rulemaking concerning consultations pursuant to the National Marine Sanctuary Act. As the last item of the day, the Transboundary Management Guidance Committee will ask the Council to review and approve its recommendations for total allowable catches for eastern Georges Bank cod and haddock and Georges Bank yellowtail flounder for the 2009 fishing year.

Thursday, October 9, 2008

The Council will continue development of Northeast Multispecies FMP Amendment 16 measures, receive reports from its Groundfish and Recreational Advisory Panels, review projections for newly overfished stocks, identify rebuilding strategies and approve a revised timeline for development of the amendment. This agenda item will be discussed until the Council addresses any other outstanding business and adjourns.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Paul J. Howard (see ADDRESSES) at least 5 days prior to the meeting date.

Dated: September 18, 2008.
Tracey L. Thompson,
Acting Director, Office of Sustainable Fisheries, National Marine Fisheries Service.

[FR Doc. E8-22163 Filed 9-22-08; 8:45 am]

BILLING CODE 3510-22-S